DEPARTMENT OF COMMERCE

International Trade Administration

[A-570-112]

Certain Collated Steel Staples From the People's Republic of China: Final Results of Antidumping Duty Administrative Review; and Final Determination of No Shipments; 2021-2022

AGENCY: Enforcement and Compliance, International Trade Administration, Department of Commerce.

SUMMARY: The U.S. Department of Commerce (Commerce) determines that Tianjin Hweschun Fasteners Manufacturing Co., Ltd. (Tianjin Hweschun), the sole mandatory respondent in this review, did not sell subject merchandise to the United States at prices below normal value (NV) during the period of review (POR), July 1, 2021, through June 30, 2022. Commerce further determines that Zhejiang Best Nail Industrial Co., Ltd. (Best Nail)/Shaoxing Bohui Import & Export Co., Ltd. (Shaoxing Bohui) (collectively, Best Nail/Shaoxing Bohui), Tianjin Jinyifeng Hardware Co., Ltd. (Tianjin Jinyifeng), and Unicorn Fasteners Co., Ltd. (Unicorn Fasteners) made no shipments of subject merchandise from the People's Republic of China (China) during the POR. Commerce also determines that China Staple (Tianjin) Co., Ltd. (China Staple), Shanghai Yueda Nails Co., Ltd. (Shanghai Yueda), and Shijiazhuang Shuangming Trade Co., Ltd. (Shijiazhuang Shuangming) have not established eligibility for a separate rate and, therefore, are part of the China-wide entity.

DATES: Applicable December 7, 2023.

FOR FURTHER INFORMATION CONTACT: Brian Smith, AD/CVD Operations, Office VIII, Enforcement and Compliance, International Trade Administration, U.S. Department of Commerce, 1401 Constitution Avenue NW, Washington, DC 20230; telephone: (202) 482-1766.

SUPPLEMENTARY INFORMATION:

Background

On August 3, 2023, Commerce published the Preliminary Results.¹ For events subsequent to the Preliminary Results, see the Issues and Decision Memorandum.²

¹ See Certain Collated Steel Staples from the People's Republic of China: Preliminary Results of the Antidumping Duty Administrative Review and Preliminary Determination of No Shipments; 2021-2022, 88 FR 51284 (August 3, 2023) (Preliminary Results), and accompanying Preliminary Decision Memorandum (PDM).

² See Memorandum, “Certain Collated Steel Staples from the People's Republic of China: Issues and Decision Memorandum for the Final Results of the 2021-2022 Antidumping Duty Administrative Review,” dated concurrently with, and hereby adopted by, this notice (Issues and Decision Memorandum).

Scope of the Order ³

³ See Certain Collated Steel Staples from the People's Republic of China: Antidumping Duty Order, 85 FR 43815 (July 20, 2020) (Order).

The merchandise covered by the Order is certain collated steel staples, which are primarily classifiable under subheading 8305.20.0000 of the Harmonized Tariff Schedule of the United States (HTSUS). While the HTSUS subheading is provided for convenience and for customs purposes, the written description of the subject merchandise is dispositive. A full description of the scope of the Order is contained in the Issues and Decision Memorandum.

Analysis of Comments Received

All issues raised by interested parties in briefs are addressed in the Issues and Decision Memorandum. A list of the issues addressed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record, and comments received from interested parties regarding our Preliminary Results, we made one change to the margin calculation for Tianjin Hweschun.⁴

⁴ See Issues and Decision Memorandum for further discussion; see also Memorandum, “Final Results Calculation Memorandum for Tianjin Hweschun,” dated concurrently with this notice.

Final Determination of No Shipments

In the Preliminary Results, we preliminarily determined that Best Nail/Shaoxing Bohai, Tianjin Jinyifeng, and Unicorn Fasteners had no shipments of subject merchandise to the United States during the POR.⁵ No party filed comments with respect to this preliminary finding and we received no information to contradict it. Therefore, we continue to find that these three companies had no shipments of subject merchandise during the POR and will issue appropriate liquidation instructions that are consistent with our “automatic assessment” clarification for these final results.⁶

⁵ See Preliminary Results, 88 FR at 51284.

⁶ See Non-Market Economy Antidumping Proceedings: Assessment of Antidumping Duties, 76 FR 65694 (October 24, 2011) (Assessment Practice Refinement).

Separate Rate Eligibility

In our Preliminary Results, we determined that only Tianjin Hweschun demonstrated its eligibility for a separate rate.⁷ As we received no information or interested party arguments to the contrary since the issuance of the Preliminary Results, we continue to find that this company is eligible for a separate rate.

⁷ See Preliminary Results PDM at 5-7.

The China-Wide Entity

In the Preliminary Results, Commerce found that China Staple, Shanghai Yueda, and Shijiazhuang Shuangming did not establish eligibility for a separate rate because they did not file timely separate rate applications or separate rate certifications, as appropriate.⁸ No parties submitted comments on this preliminary finding, and we continue to determine that each of these entities did not establish its eligibility for a separate rate. Therefore, we determine China Staple, Shanghai Yueda, and Shijiazhuang Shuangming to be part of the China-wide entity. Because no party requested a review of the China-wide entity, and Commerce no longer considers the China-wide entity as an exporter conditionally subject to administrative reviews,⁹ we did not conduct a review of the China-wide entity. Thus, the weighted-average dumping margin for the China-wide entity, as adjusted for export subsidies (i.e., 112.01 percent),¹⁰ is not subject to change as a result of this review.

⁸ Id. at 7.

⁹ See Antidumping Proceedings: Announcement of Change in Department Practice for Respondent Selection in Antidumping Duty Proceedings and Conditional Review of the Nonmarket Economy Entity in NME Antidumping Duty Proceedings, 78 FR 65963, 65969-70 (November 4, 2013).

¹⁰ See Order, 86 FR at 43816. The weighted-average dumping margin for the China-wide entity (122.55 percent) was adjusted for export subsidies to determine the cash deposit rate (112.01 percent) for companies in the China-wide entity.

Final Results of Review

Commerce determines that the following weighted-average dumping margin exists for Tianjin Hweschun for the period July 1, 2021, through June 30, 2022:

Exporter | Weighted- average dumping margin (percent)
Tianjin Hweschun Fasteners Manufacturing Co., Ltd | 0.00

Disclosure

We intend to disclose the calculations performed to parties in this proceeding within five days of the date of publication of this notice in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with these final results of review. Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

For Tianjin Hweschun, we will instruct CBP to liquidate the appropriate entries without regard to antidumping duties.¹¹ For entries that were not reported in the U.S. sales database submitted by Tianjin Hweschun during this review, Commerce will instruct CBP to liquidate such entries at the China-wide rate (i.e., 112.01 percent).

¹¹ See 19 CFR 351.106(c)(2).

For the companies identified as part of the China-wide entity (i.e., China Staple, Shanghai Yueda, and Shijiazhuang Shuangming), we will instruct CBP to apply the China-wide rate to all entries of subject merchandise during the POR which were exported by these companies.

For Best Nail/Shaoxing Bohai, Tianjin Jinyifeng, and Unicorn Fasteners, which Commerce determined had no shipments of the subject merchandise during the POR, any suspended entries that entered under each of these exporters' case numbers (i.e., at that exporter's cash deposit rate) will be liquidated at the rate for the China-wide entity, consistent with Commerce's assessment practice in non-market economy cases.¹²

¹² For a full discussion of this practice, see Assessment Practice Refinement, 76 FR at 65694.

Cash Deposit Requirements

The following cash deposit requirements will be effective upon publication of the final results of this administrative review for all shipments of the subject merchandise from China entered, or withdrawn from warehouse, for consumption on or after the publication date, as provided by section 751(a)(2)(C) of the Act: (1) the cash deposit rate for Tianjin Hweschun will be zero; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 112.01 percent); and (4) for all non-Chinese exporters of subject merchandise which have not received their own separate rate, the cash deposit rate will be the rate applicable to the Chinese exporter(s) that supplied that non-Chinese exporter. These per-unit cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5).

Dated: November 30, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Deduction of Countervailing Duties From U.S. Price

Comment 2: Valuation of Labor

Comment 3: Steel Scrap Offset

VI. Recommendation

[FR Doc. 2023-26893 Filed 12-6-23; 8:45 am]

BILLING CODE 3510-DS-P